JUDICIAL CONFERENCE OF THE UNITED STATES

Meeting of the Judicial Conference Committee on Rules of Practice and Procedure

AGENCY: Judicial Conference of the United States, Advisory Committee on Rules of Appellate Procedure.

ACTION: Notice of Open Meeting.

SUMMARY: The Advisory Committee on Rules of Appellate Procedure will hold a two-day meeting. The meeting will be open to public observation but not participation.

DATES: April 23-24, 2015.

Time: 8:30 a.m. to 5 p.m.

ADDRESSES: United States Court of Appeals for the Third Circuit, James A. Byrne United States Courthouse, 601 Market Street, Philadelphia, Pennsylvania 19106.

FOR FURTHER INFORMATION CONTACT: Jonathan C. Rose, Rules Committee Secretary, Rules Committee Support Office, Administrative Office of the United States Courts, Washington, DC 20544, telephone (202) 502-1820.

Dated: January 23, 2015.
Jonathan C. Rose,
Rules Committee Secretary.

[FR Doc. 2015-01559 Filed 1-27-15; 8:45 am]

BILLING CODE 2210-55-P